DEPARTMENT OF EDUCATION

Applications for New Awards; Personnel Development To Improve Services and Results for Children With Disabilities Program—Preservice Improvement Enhancement Grants To Support Related Service Providers To Effectively Serve Children With Disabilities and Their Families

AGENCY: Office of Special Education and Rehabilitative Services, Department of Education.

ACTION: Notice.

SUMMARY: The Department of Education (Department) is issuing a notice inviting applications for new awards for fiscal year (FY) 2024 for Personnel Development to Improve Services and Results for Children with Disabilities Program—Preservice Improvement Enhancement Grants to Support Related Service Providers to Effectively Serve Children with Disabilities and Their Families, Assistance Listing Number 84.325S. This notice relates to the approved information collection under OMB control number 1820-0028.

DATES:

Applications Available: February 21, 2024.

Deadline for Transmittal of Applications: May 1, 2024.

Deadline for Intergovernmental Review: July 1, 2024.

Pre-Application Webinar Information: No later than February 26, 2024, the Office of Special Education and Rehabilitative Services will post pre-recorded informational webinars designed to provide technical assistance to interested applicants. The webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/d/2022-26554.

FOR FURTHER INFORMATION CONTACT: Yolanda Lusane, U.S. Department of Education, 400 Maryland Avenue SW, Room 4A10, Washington, DC 20202. Telephone: (202) 987-0146. Email: Yolanda.Lusane@ed.gov.

If you are deaf, hard of hearing, or have a speech disability and wish to access telecommunications relay services, please dial 7-1-1.

SUPPLEMENTARY INFORMATION:

Full Text of Announcement

I. Funding Opportunity Description

Purpose of Program: The purposes of this program are to (1) help address State-identified needs for personnel preparation in special education, early intervention, related services, and regular education to work with children, including infants, toddlers, and youth with disabilities; and (2) ensure that those personnel have the necessary skills and knowledge, derived from practices that have been determined through scientifically based research, to be successful in serving those children.

Priority: This competition includes one absolute priority, which includes one competitive preference priority within the absolute priority. In accordance with 34 CFR 75.105(b)(2)(v), the absolute priority is from allowable activities specified in the statute (see sections 662 and 681 of the Individuals with Disabilities Education Act (IDEA) (20 U.S.C. 1462 and 1481)).

Absolute Priority: For FY 2024 and any subsequent year in which we make awards from the list of unfunded applications from this competition, this priority is an absolute priority. Under 34 CFR 75.105(c)(3), we consider only applications that meet this priority.

This priority is:

Preservice Improvement Enhancement Grants to Support Related Service Providers to Effectively Serve Children with Disabilities and Their Families.

Background:

The shortages of related services personnel who work in early intervention, early childhood, and school-based settings are at critical levels, resulting in decreased numbers of personnel with the skills and qualifications needed to serve infants, toddlers, children, and youth with disabilities (children with disabilities) and their families, which may ultimately prevent children with disabilities from receiving the services they need to reach their full potential (American Speech Language Hearing Association, n.d.; IDEA Infant and Toddler Coordinators Association, 2021; National Coalition on Personnel Shortages in Special Education and Related Services, n.d.).

The shortage is impacted by the low number of graduates from related services personnel preparation programs choosing to work in early intervention and special education systems. Related services personnel are generally trained to serve individuals across the lifespan and the curriculum, courses, and clinical experiences they receive typically are based on a medical model. A medical model focuses on diagnosing a condition and providing services to address the condition in medical settings such as hospitals and clinics. Related services preparation programs vary greatly in the coursework, assignments, and clinical experiences that focus on children with disabilities and service provision in early intervention, early childhood, and school-based settings. As an example, a recent survey of pediatric faculty from 80 Doctorate of Physical Therapy programs (an earned doctorate and passing a State licensure exam is required to practice physical therapy) reported that doctoral students (students) engaged in a mean of only 18.8 hours of experiential learning with children and 12.2 hours specifically with children who have movement limitations or for whom a medical diagnosis or developmental delay impacts their participation in daily life (Wynarczuk et al., 2022).

Additionally, there is significant variation in the extent to which students' related services personnel preparation programs introduce them to content that develops competencies in providing interventions and services to children with disabilities and their families in early intervention, early childhood, and school-based settings. For example, to effectively work with children with disabilities, related services providers need competencies in actively engaging and communicating with families; collaborating with educators and other related services providers; implementing evidence-based interventions that will support children in achieving positive developmental, learning, and academic outcomes; supporting children to fully participate in inclusive settings; and understanding IDEA requirements. With limited preparation in providing services in early intervention, early childhood, and school-based settings, related services personnel may lack awareness of the type of employment opportunities available in these settings or may question whether they have the competencies needed to work with children with disabilities, especially those with significant disabilities.

To effectively support children with disabilities in gaining the skills needed to access and actively participate in their learning and educational environments, under this grant competition, the Department plans to award grants to related services personnel preparation programs. The grant awards are intended to expand or enhance curriculums, courses of study, and clinical experiences to increase the competencies of related services personnel to serve children with disabilities and their families in early intervention, early childhood, and educational settings. This priority also will advance the Secretary's Supplemental Priorities 2—Promoting Equity in Student Access to Educational Resources and Opportunities and 3—Supporting a Diverse Educator Workforce and Professional Growth to Strengthen Student Learning. See Secretary's Final Supplemental Priorities and Definitions for Discretionary Grants Programs, published in the Federal Register on December 10, 2021 (86 FR 70612).

Priority:

The purpose of this priority is to fund Preservice Improvement Enhancement Grants to Support Related Service Providers to Effectively Serve Children with Disabilities and Their Families to achieve, at a minimum, the following:

(a) Increased number of related services providers, including those who are multilingual and from racially and ethnically diverse backgrounds, equipped with the competencies necessary to deliver services to children with disabilities and their families in early intervention, early childhood, and school-based settings.

(b) Increased number of institutions of higher education (IHEs), including Historically Black Colleges and Universities (HBCUs),¹ Tribally Controlled Colleges and Universities (TCCUs),² and other Minority-Serving Institutions (MSIs),³ with related services personnel preparation programs ⁴ at the associate degree, bachelor's degree, master's degree, educational specialist, or clinical doctorate degree level that include sufficient coursework, assignments, and clinical experiences in early intervention, early childhood, and school-based settings to support students in developing competencies to serve children with disabilities and their families.

¹ For purposes of this priority, “Historically Black Colleges and Universities” means colleges and universities that meet the criteria set out in 34 CFR 608.2.

² For purposes of this priority, “Tribally Controlled Colleges and Universities” has the meaning ascribed to it in section 316(b)(3) of the Higher Education Act of 1965 (HEA).

³ For purposes of this priority, “Minority-Serving Institution” means an institution that is eligible to receive assistance under sections 316 through 320 of part A of title III, under part B of title III, or under title V of the HEA. For purposes of this priority, the Department will use the FY 2023 Eligibility Matrix to determine MSI eligibility (see https://www2.ed.gov/about/offices/list/ope/idues/eligibility.html).

⁴ For the purposes of this priority, “related services personnel preparation programs” include those preparing speech-language pathologists, audiologists, physical therapists, occupational therapists, social workers, counselors services, including rehabilitation counselors, orientation and mobility specialists, and sign language interpreters. See 34 CFR 300.34.

(c) Increased capacity of related services faculty to design and implement enhanced degree programs at the associate degree, bachelor's degree, master's degree, educational specialist, or clinical doctorate degree level that prepare related services providers to deliver services to children with disabilities and their families in early intervention, early childhood, and school-based settings.

In addition to these programmatic requirements, to be considered for funding, applicants must meet the following application and administrative requirements in this priority:

(a) Demonstrate, in the narrative section of the application under “Significance,” how the proposed project will—

(1) Address the need in the field to increase the number of related service providers in the proposed area, including those who are multilingual and from racially and ethnically diverse backgrounds, who are fully qualified and have the competencies to serve children with disabilities and their families in early intervention, early childhood, and school-based settings;

(2) Increase the number of related service providers, including those who are multilingual and from racially and ethnically diverse backgrounds, with competencies ⁵ in the proposed degree area to provide effective and equitable, evidence-based,⁶ culturally and linguistically responsive interventions and services in early intervention, early childhood, and school-based settings; and

⁵ For the purposes of this priority, “competencies” means what a person knows and can do—the knowledge, skills, and dispositions necessary to effectively function in a role (National Professional Development Center on Inclusion, 2011).

⁶ For the purposes of this priority, “evidence-based” means, at a minimum, evidence that demonstrates a rationale (as defined in 34 CFR 77.1), where a key project component (as defined in 34 CFR 77.1) included in the project's logic model (as defined in 34 CFR 77.1) is informed by research or evaluation findings that suggest the project component is likely to improve relevant outcomes (as defined in 34 CFR 77.1).

(3) Increase faculty competencies to design and deliver content that will prepare students, including those who are multilingual and from racially and ethnically diverse backgrounds, in related services personnel preparation programs to serve children with disabilities and their families.

(b) Demonstrate, in the narrative section of the application under “Quality of project services,” how the project will—

(1) Enhance or redesign a current related services personnel preparation degree program to achieve the intended outcomes of the proposed project. To address this requirement, the applicant must describe the approach that will be used to—

(i) Develop or modify a curriculum, including courses, assignments, and clinical experiences, for the degree program to prepare related services personnel to provide effective, equitable, evidence-based, and culturally and linguistically responsive instruction, interventions, and services in early intervention and school-based settings, that improve outcomes for children with disabilities and their families, including those who are multilingual and from racially and ethnically diverse backgrounds, in early intervention, early childhood, and school-based settings. The applicant must describe—

(A) The components of the proposed or modified curriculum that show coursework, clinical experiences, and other requirements, that will build the competencies of related services personnel to provide services in early intervention, early childhood, and school-based settings;

(B) The approach that will be used to identify and incorporate current research, evidence-based practices (EBPs), and State and national professional organization personnel standards in the development and delivery of the curriculum;

(C) The knowledge and competencies students will acquire in the curriculum, including knowledge and competencies necessary to provide effective, equitable, and evidence-based interventions and services in early intervention and school-based settings for children with disabilities and their families; and

(D) How coursework and clinical experience will be designed to enable students to acquire competencies to actively engage and communicate with families; collaborate with educators and other related services providers; implement evidence-based interventions that will support children's ability to obtain positive developmental, learning, and academic outcomes; support children to fully participate in inclusive settings; and understand requirements of the IDEA; and

(ii) Develop partnerships with early intervention, early childhood, and school-based sites to prepare related services personnel to provide effective, equitable, and evidence-based interventions and services in early intervention and school-based settings to improve outcomes for children with disabilities and their families; and

(2) Provide professional development to faculty and staff to develop their capacity to develop and deliver courses and the curriculum that prepares students to provide services in early intervention, early childhood, and school-based settings.

(c) Demonstrate, in the narrative section of the application under “Quality of the project personnel and quality of management plan,” how—

(1) The proposed project will encourage applications for employment from persons who are members of groups that have traditionally been underrepresented based on race, color, national origin, gender, age, or disability, as appropriate;

(2) The project director and key project personnel have the qualifications and experience to carry out the proposed activities and achieve the project's intended outcomes;

(3) The project director and other key project personnel will manage the components of the project;

(4) The time commitments of the project director and other key project personnel are adequate to meet the objectives of the proposed project;

(5) The proposed management plan will ensure that the project will meet the proposed objectives and the degree program will be of high quality; and

(6) The proposed project will benefit from a diversity of partner perspectives, including faculty, community partners, families of children with disabilities, early intervention, and early childhood and school personnel, among others, in its development and operation.

(d) Demonstrate, in the narrative section of the application under “Adequacy of resources,” how—

(1) The applicant and any key partners have adequate resources to carry out the proposed activities; and

(2) The budget is adequate for meeting the project objectives.

(e) Demonstrate, in the narrative section of the application under “Quality of the project evaluation,” how the applicant will—

(1) Evaluate how well the goals or objectives of the proposed project have been met. To meet this requirement the applicant must describe—

(i) The relevant outcomes to be measured for the project, particularly the faculty's and students' acquisition of required competencies; and

(ii) The evaluation methodologies, data collection methods, and data analyses that will be used; and

(2) Collect, analyze, and use data on students in the program to inform the proposed project on an ongoing basis.

(f) Address the following application requirements and assurances. The applicant must—

(1) Include, in Appendix A, charts, tables, figures, graphs, screen shots and visuals that provide information directly relating to the application requirements for the narrative. Appendix A should not be used for supplementary information. Please note that charts, tables, figures, graphs, and screen shots may be single-spaced when placed in Appendix A;

(2) Include in Appendix B any letters of commitment or support. The applicant must include a letter of commitment from the chair of the department where the project will be located affirming support for the proposal;

(3) Provide an assurance that if the project maintains a website, it will be of high quality, with an easy-to-navigate design that meets or exceeds government and industry-recognized standards for accessibility;

(4) Include, in the budget, attendance at a three-day project directors' conference in Washington, DC, during each year of the project period. The project must reallocate funds for travel to the project directors' conference no later than the end of the third quarter of each budget period if the conference is conducted virtually; and

(5) Provide an assurance that the project will submit the enhanced curriculum and syllabi for courses that are included in the related services personnel preparation program.

Competitive Preference Priority:

Within this absolute priority, we give competitive preference to applications that address the following priority. Under 34 CFR 75.105(c)(2)(i), we award an additional three points to an application that meets the competitive preference priority. Applicants must indicate in the abstract if the competitive preference priority is addressed.

The competitive preference priority is:

Applications from HBCUs, TCCUs, and other MSIs, and private nonprofit organizations that have legal authority to enter into grants and cooperative agreements with the Federal government on behalf of an HBUC, TCCU, and other MSI (0 or 3 points).

References

American Speech Language Hearing Association. (n.d.). Recruiting and retaining qualified school-based SLPs. www.asha.org/careers/recruitment/schools/.

IDEA Infant and Toddler Coordinators Association. (2021). Tipping points survey: Demographics, challenges, and opportunities. www.ideainfanttoddler.org/pdf/2021-Tipping-Points-Survey.pdf.

National Coalition on Personnel Shortages in Special Education. (n.d.) About the shortage. https://specialedshortages.org/about-the-shortage/.

National Professional Development Center on Inclusion. (Aug. 2011). Competencies for early childhood educators in the context of inclusion: Issues and guidance for States. The University of North Carolina, FPG Child Development Institute. https://npdci.fpg.unc.edu/sites/npdci.fpg.unc.edu/files/resources/NPDCI-Competencies-2011_0.pdf.

Wynarczuk, K.D., Gagnon, K., Fiss, A.L.F., Kendall, E., Schreiber, J., & Rapport, M.J. (2022). The how and the why of including children: Experiential learning in teaching physical therapist students. Pediatric Physical Therapy, 34(3), 400-409. https://doi.org/10.1097/PEP.0000000000000920.

Waiver of Proposed Rulemaking: Under the Administrative Procedure Act (APA) (5 U.S.C. 553), the Department generally offers interested parties the opportunity to comment on proposed priorities. Section 681(d) of IDEA, however, makes the public comment requirements of the APA inapplicable to the priority in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 304.

Note: The regulations in 34 CFR part 79 apply to all applicants except federally recognized Indian Tribes.

Note: The regulations in 34 CFR part 86 apply to IHEs only.

II. Award Information

Type of Award: Discretionary grants.

Estimated Available Funds: The Administration has requested $250,000,000 for the Personnel Development to Improve Services and Results for Children with Disabilities program for FY 2024, of which we intend to use an estimated $2,000,000 for this competition. The actual level of funding, if any, depends on final congressional action. However, we are inviting applications to allow enough time to complete the grant process if Congress appropriates funds for this program.

Contingent upon the availability of funds and the quality of applications, we may make additional awards in FY 2025 from the list of unfunded applications from this competition.

Estimated Range of Awards: $125,000 to $150,000 per year.

Estimated Average Size of Awards: $135,000 per year.

Maximum Award: We will not make an award exceeding $450,000 per project for a project period of 36 months.

Note: Applicants must describe, in their applications, the amount of funding being requested for each 12-month budget period.

Estimated Number of Awards: 13.

Note: The Department is not bound by any estimates in this notice.

Project Period: Up to 36 months.

III. Eligibility Information

1. Eligible Applicants: IHEs and private nonprofit organizations that have legal authority to enter into grants and cooperative agreements with the Federal government on behalf of an IHE.

Note: Applicants with an active 84.325K, 84.325M, or 84.325R grant in the discipline degree program being proposed for enhancement are not eligible to apply for this award. For the purpose of this priority, a grant is active until the end of the grant's project or funding period, including any extensions of those periods that extend the grantee's authority to obligate funds.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses an unrestricted indirect cost rate. For more information regarding training indirect cost rates, see 34 CFR 75.562. For more information regarding indirect costs, or to obtain a negotiated indirect cost rate, please see https://www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c) a grantee under this competition may award subgrants—to directly carry out project activities described in its application—to the following types of entities: IHEs, nonprofit organizations suitable to carry out the activities proposed in the application, and other public agencies. The grantee may award subgrants to entities it has identified in an approved application or that it selects through a competition under procedures established by the grantee.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/d/2022-26554, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 40 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which the proposed project will prepare personnel for fields in which shortages have been demonstrated; and

(ii) The importance or magnitude of the results or outcomes likely to be attained by the proposed project, especially improvements in teaching and student achievement.

(b) Quality of project services (45 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable;

(ii) The extent to which the services to be provided by the proposed project reflect up-to-date knowledge from research and effective practice; and

(iii) The extent to which the training or professional development services to be provided by the proposed project are of sufficient quality, intensity, and duration to lead to improvements in practice among the recipients of those services.

(c) Quality of project personnel and quality of management plan (20 points).

(1) The Secretary considers the quality of the personnel who will carry out the proposed project and the quality of the management plan for the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The adequacy of the management plan to achieve the objectives of the proposed project on time and within budget, including clearly defined responsibilities, timelines, and milestones for accomplishing project tasks;

(iii) The extent to which the time commitments of the project director and principal investigator and other key project personnel are appropriate and adequate to meet the objectives of the proposed project; and

(iv) The adequacy of mechanisms for ensuring high-quality products and services from the proposed project.

(d) Adequacy of resources (10 points).

(1) The Secretary considers the adequacy of resources for the proposed project.

(2) In determining the adequacy of resources for the proposed project, the Secretary considers the following factors:

(1) The adequacy of support, including facilities, equipment, supplies, and other resources, from the applicant organization or the lead applicant organization; and

(2) The extent to which the costs are reasonable in relation to the objectives, design, and potential significance of the proposed project.

(e) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project; and

(ii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established a set of performance measures, including long-term measures, that are designed to yield information on various aspects of the effectiveness and quality of the Personnel Development to Improve Services and Results for Children with Disabilities program. These measures include (1) the percentage of preparation programs that incorporate scientifically based research or EBPs into their curricula; and (2) the percentage of scholars completing the preparation program who are knowledgeable and skilled in EBPs that improve outcomes for children with disabilities.

The measures apply to projects funded under this competition, and grantees are required to submit data on these measures as directed by the Office of Special Education Programs.

Grantees will be required to report information on their project's performance in annual and final performance reports to the Department (34 CFR 75.590).

The Department will also closely monitor the extent to which the products and services provided by the project meet needs identified by stakeholders and may require the project to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-03439 Filed 2-20-24; 8:45 am]

BILLING CODE 4000-01-P